DEPARTMENT OF LABOR

Employment and Training Administration

[TA-W-62,253]

Manpower Incorporated, Spring Lake, MI; Notice of Termination of Investigation

Pursuant to Section 221 of the Trade Act of 1974, as amended, an investigation was initiated on October 4, 2007 in response to a petition filed by a company official on behalf of workers of Manpower Incorporated, Spring Lake, Michigan.

Workers of the subject firm are covered by a certification of eligibility to apply for worker adjustment assistance and alternative trade adjustment assistance under petition number TA-W-61,530 (amended), that does not expire until August 23, 2009.

Consequently, further investigation in this case would serve no purpose and the investigation under this petition has been terminated.

Signed at Washington, DC, this 22nd day of October 2007.
Linda G. Poole,
Certifying Officer, Division of Trade Adjustment Assistance.

[FR Doc. E7-21356 Filed 10-30-07; 8:45 am]

BILLING CODE 4510-FN-P